DEPARTMENT OF THE INTERIOR

Fish and Wildlife Service

50 CFR Part 17

RIN 1018-AG15

Endangered and Threatened Wildlife and Plants: Final Designation of Critical Habitat for the Arroyo Toad; Correction

AGENCY: Fish and Wildlife Service, Interior.

ACTION: Final rule; Correction.

SUMMARY: The final rule to establish critical habitat for the arroyo toad was published in the Federal Register on February 7, 2001; the effective date for this final rule is March 9, 2001. This document contains corrections to the Final Designation of Critical Habitat for the Arroyo Toad. These corrections are necessary to provide the correct name for the Fallbrook Naval Weapons Station and to clarify the maps provided with the critical habitat designation. As noted in the final rule, the GIS maps are provided to assist the public in identifying areas that may fall within the designation. The legal descriptions of the critical habitat designation required by regulation (50 CFR 424.12(c)) are the UTM coordinates that provide specific limits using reference points as found on standard topographic maps of the areas. These coordinates and legal descriptions are correct as published in the Federal Register.

DATES: This correction is effective March 9, 2001.

FOR FURTHER INFORMATION CONTACT: For information about Monterey, San Luis Obispo, Santa Barbara, and Ventura Counties, northern Los Angeles County and the desert portion of San Bernardino County, contact Diane Noda, Field Supervisor, Ventura Fish and Wildlife Office, 2394 Portola Road, Suite B, Ventura, California, (telephone 805/644-1766; facsimile 805/644-3958). For information about southern Los Angeles and urban and montane San Bernardino Counties, and Riverside, Orange, and San Diego Counties, contact Ken Berg, Field Supervisor, Carlsbad Fish and Wildlife Office, 2730 Loker Avenue West, Carlsbad, California 92008 (telephone 760/431-9440; facsimile 760/431-9624).

SUPPLEMENTARY INFORMATION: On February 7, 2001, the U.S. Fish and Wildlife Service (Service) designated critical habitat for the arroyo toad (Bufo californicus) pursuant to the Endangered Species Act of 1973, as amended (Act) (66 FR 9414). A total of approximately 73,780 hectares (182,360 acres) in Monterey, Santa Barbara, Ventura, Los Angeles, San Bernardino, Riverside, Orange, and San Diego Counties, California, is designated as critical habitat.

As published, the final rulemaking contained errors in the title of the Fallbrook Naval Weapons Station and in the maps depicting critical habitat for units 1-22. In the final rule we inadvertently referred to the Fallbrook Naval Weapons Station as a Reserve. In addition, we mistakenly included draft maps, rather than the final, of the designated critical habitat. We are providing corrected GIS maps. These GIS maps are not the legal descriptions of the habitat. We provided legal descriptions, as required by regulation (50 CFR 424.12(c)), with specific limits using reference points (UTM coordinates) as found on standard topographic maps of the areas; the legal descriptions in the final rule are correct. The GIS maps are provided to help the public understand the general location of the designated critical habitat.

Accordingly, make the following corrections to FR Doc. 01-2253 published at 66 FR 9413 on February 7, 2001:

PART 17—[CORRECTED]

1. On pages 9427 and 9436, in the middle columns, correct “Fallbrook Naval Weapons Reserve” to read as follows:

Fallbrook Naval Weapons Station

BILLING CODE 4310-55-P

2. On page 9453, correct the map for Unit 1 to read as follows:

BILLING CODE 4310-55-C

3. On page 9454, correct the map for Unit 2 and 3 to read as follows:

BILLING CODE 4310-55-C

4. On page 9456, correct the map for Unit 4 to read as follows:

BILLING CODE 4310-55-C

5. On page 9457, correct the map for Unit 5 to read as follows:

BILLING CODE 4310-55-C

6. On page 9458, correct the map for Unit 6,7, and 20 to read as follows:

BILLING CODE 4310-55-C

7. On page 9460, correct the map for Unit 8 and 10 to read as follows:

BILLING CODE 4310-55-C

8. On page 9461, correct the map for Unit 9 and 22 to read as follows:

BILLING CODE 4310-55-C

9. On page 9463, correct the map for Unit 11, 12, and 14 to read as follows:

BILLING CODE 4310-55-C

10. On page 9464, correct the map for Unit 13 to read as follows:

BILLING CODE 4310-55-C

11. On page 9466, correct the map for Unit 15 to read as follows:

BILLING CODE 4310-55-C

12. On page 9467, correct the map for Unit 16 to read as follows:

BILLING CODE 4310-55-C

13. On page 9468, correct the map for Unit 17 to read as follows:

BILLING CODE 4310-55-C

14. On page 9469, correct the map for Unit 18 to read as follows:

BILLING CODE 4310-55-C

15. On page 9471, correct the map for Unit 19 to read as follows:

BILLING CODE 4310-55-C

16. On page 9473, correct the map for Unit 21 to read as follows:

BILLING CODE 4310-55-C

Dated: February 23, 2001.
Joseph E. Doddridge,
Acting Assistant Secretary for Fish and Wildlife and Parks.

[FR Doc. 01-5497 Filed 3-6-01; 8:45 am]

BILLING CODE 4310-55-P